DEPARTMENT OF THE INTERIOR

Bureau of Land Management

[SDM 013790, SDM 020559, and SDM 025762]

Public Land Order No. 7522; Partial Revocation of Public Land Order Nos. 1344, 1535, and 1744; South Dakota

AGENCY: Bureau of Land Management, Interior.

ACTION: Public Land Order.

SUMMARY: This order partially revokes three Public Land Orders insofar as they affect approximately 728 acres of National Forest System lands withdrawn for a campground, roadside zone, and ranger station. The lands are no longer needed for these purposes. This action will make approximately 617 acres of National Forest System lands available for exchange and make the remaining lands available for conveyance under Public Law No. 106-329. The Federal lands have been and will remain open to mineral leasing.

EFFECTIVE DATE: May 9, 2002.

FOR FURTHER INFORMATION CONTACT: Glenn Kostelecky, Black Hills National Forest, R.R. #2, Box 200, Custer, South Dakota 57730, 605-673-9252.

SUPPLEMENTARY INFORMATION: By virtue of the authority vested in the Secretary of the Interior by Section 204 of the Federal Land Policy and Management Act of 1976, 43 U.S.C. 1714 (1994), it is ordered as follows:

1. Public Land Order Nos. 1344, 1535, and 1744, which withdrew National Forest System lands for a campground, roadside zone, and ranger station, are hereby revoked insofar as they affect the following described lands:

Black Hills National Forest

(a) PLO No. 1344—Mitchell Lake Campground (SDM 020559).

Black Hills Meridian

T. 1 S., R. 5 E.,

Sec. 28, N½NW¼NW¼ and NW¼NE¼NW¼.

The area described contains 30 acres in Pennington County.

(b) PLO No. 1535—Roadside Zone (SDM 013790).

A strip of land 330 feet on each side of the center line of U.S. Highway Nos. 16 and 16A through the following legal subdivisions:

Black Hills Meridian

T. 1 S., R. 5 E.,

Sec. 20, SW¼SE¼;

Sec. 21, NE¼, SE¼, and SW¼;

Sec. 22, SW¼ and NW¼;

Sec. 25, SE¼SE¼;

Sec. 26, S½SE¼ and S½SW¼;

Sec. 27, SE¼, SW¼NE¼, and NW¼;

Sec. 28, NW¼NW¼;

Sec. 29, NE¼ and NW¼;

Sec. 30, NE¼;

Sec. 35, NE¼;

Sec. 36, N½NE¼ and NW¼.

The area described contains 616.80 acres in Pennington County.

(c) PLO No. 1744—Reder Ranger Station (SDM 025762)

Black Hills Meridian

T. 1 S., R. 5 E.,

Sec. 29, lots 6 and 7;

Sec. 30, lot 19, NW¼SE¼NE¼, and lot A of Reder Placer M.E. 07905, M.S. 433, described as follows: Beginning at Corner No. 3 of M.S. 1986 thence, S. 10° W., 340 feet; S. 89° E., 462 feet; S. 51° W., 593 feet; N. 1° W., 376 feet, to point of beginning.

The area described contains 81.55 acres in Pennington County.

2. The Federal lands lying within the roadside zone are hereby made available for exchange.

3. The remaining Federal lands are hereby made available for disposal under the Black Hills National Forest and Rocky Mountain Research Station Improvement Act (Public Law No. 106-329).

Dated: April 23, 2002.
Rebecca W. Watson,
Assistant Secretary for Land and Minerals Management.

[FR Doc. 02-11574 Filed 5-8-02; 8:45 am]

BILLING CODE 3410-11-P